DEPARTMENT OF HOUSING AND URBAN DEVELOPMENT

[Docket No. FR-4557-N-20]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-937-7588.

SUPPLEMENTARY INFORMATION: In accordance with 24 CFR part 581 and section 501 of the Steward B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the agency cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interests as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Barbara Jenkins, Air Force Real Estate Agency, (Area-MI), Bolling Air Force Base, 112 Luke Avenue, Suite 104, Building 5683, Washington DC 20332-8020; (202) 767-4184; ARMY: Mr. Jeff Holste, Military Programs, U.S. Army Corps of Engineers, Installation Support Center, Planning & Real Property Branch, Attn: CEMP-IP, 7701 Telegraph Road, Alexandria, VA 22315-3862; (703) 428-6318; (These are not toll-free numbers).

Dated: May 11, 2000.
Fred Karnas, Jr.,
Deputy Assistant Secretary for Special Needs Assistance Programs.

Title V, Federal Surplus Property Program: Federal Register Report for 5/19/00

Suitable/Available Properties

Land (by State)

Nebraska

0.22 acres

Offutt AFB

Sarpy Co: NE 68113-

Landholding Agency: Air Force

Property Number: 18200020009

Status: Unutilized

Comment: small

Unsuitable Properties

Buildings (by State)

Alabama

Bldgs. 3365, 3366

Redstone Arsenal

Redstone Arsenal Co: Madison AL 35898-5000

Landholding Agency: Army

Property Number: 21200020001

Status: Unutilized

Reasons: Secured Area, Extensive deterioration

Bldgs. 3553-3555

Redstone Arsenal

Redstone Arsenal Co: Madison AL 35898-

Landholding Agency: Army

Property Number: 21200020002

Status: Unutilized

Reasons: Secured Area, Extensive deterioration

Bldgs. 3610, 3611

Redstone Arsenal

Redstone Arsenal Co: Madison AL 35898-

Landholding Agency: Army

Property Number: 21200020003

Status: Unutilized

Reasons: Secured Area, Extensive deterioration

Bldgs. 3640-3643

Redstone Arsenal

Redstone Arsenal Co: Madison AL 35898-

Landholding Agency: Army

Property Number 21200020004

Status: Unutilized

Reasons: Secured Area, Extensive deterioration

Bldg. 3657

Redstone Arsenal

Redstone Arsenal Co: Madison AL 35898-

Landholding Agency: Army

Property Number 21200020005

Status: Unutilized

Reasons: Secured Area, Extensive deterioration

Bldg. 5100

Redstone Arsenal

Redstone Arsenal Co: Madison AL 35898-

Landholding Agency: Army

Property Number: 21200020006

Status: Unutilized

Reasons: Secured Area, Extensive deterioration

Bldg. 5204

Redstone Arsenal

Redstone Arsenal Co: Madison AL 35898-

Landholding Agency: Army

Property Number: 21200020007

Status: Unutilized

Reasons: Secured Area, Extensive deterioration

Bldg. 5658

Redstone Arsenal

Redstone Arsenal Co: Madison AL 35898-

Landholding Agency: Army

Property Number: 21200020008

Status: Unutilized

Reasons: Secured Area, Extensive deterioration

Bldg. 5671

Redstone Arsenal

Redstone Arsenal Co: Madison AL 35898-

Landholding Agency: Army

Property Number: 21200020009

Status: Unutilized

Reasons: Secured Area, Extensive deterioration

Bldg. 5672

Redstone Arsenal

Redstone Arsenal Co: Madison AL 35898-

Landholding Agency: Army

Property Number: 21200020010

Status: Unutilized

Reasons: Secured Area

Bldg. 6109

Redstone Arsenal

Redstone Arsenal Co: Madison AL 35898-

Landholding Agency: Army

Property Number: 21200020011

Status: Unutilized

Reasons: Secured Area, Extensive deterioration

Bldgs. 6212, 6262

Redstone Arsenal

Redstone Arsenal Co: Madison AL 35898-

Landholding Agency: Army

Property Number: 21200020012

Status: Unutilized

Reasons: Secured Area, Extensive deterioration

Bldg. 6300

Redstone Arsenal

Redstone Arsenal Co: Madison AL 35898-

Landholding Agency: Army

Property Number: 21200020013

Status: Unutilized

Reasons: Secured Area, Extensive deterioration

Bldg. 6603

Redstone Arsenal

Redstone Arsenal Co: Madison AL 35898-

Landholding Agency: Army

Property Number: 21200020014

Status: Unutilized

Reasons: Secured Area, Extensive deterioration

Bldg. 7108

Redstone Arsenal

Redstone Arsenal Co: Madison AL 35898-

Landholding Agency: Army

Property Number: 21200020015

Status: Unutilized

Reasons: Secured Area, Extensive deterioration

Bldg. 7385

Redstone Arsenal

Redstone Arsenal Co: Madison AL 35898-

Landholding Agency: Army

Property Number: 21200020016

Status: Unutilized

Reasons: Secured Area, Extensive deterioration

Bldg. 7549

Redstone Arsenal

Redstone Arsenal Co: Madison AL 35898-

Landholding Agency: Army

Property Number: 21200020017

Status: Unutilized

Reasons: Secured Area, Extensive deterioration

Bldgs. 7551, 7552

Redstone Arsenal

Redstone Arsenal Co: Madison AL 35898-

Landholding Agency: Army

Property Number: 21200020018

Status: Unutilized

Reasons: Secured Area, Extensive deterioration

Bldgs. 7555, 7557, 7558

Redstone Arsenal

Redstone Arsenal Co: Madison AL 35898-

Landholding Agency: Army

Property Number: 21200020019

Status: Unutilized

Reasons: Secured Area, Extensive deterioration

Bldgs. 7581, 7588

Redstone Arsenal

Redstone Arsenal Co: Madison AL 35898-

Landholding Agency: Army

Property Number: 21200020020

Status: Unutilized

Reasons: Secured Area, Extensive deterioration

Bldg. 7595

Redstone Arsenal

Redstone Arsenal Co: Madison AL 35898-

Landholding Agency: Army

Property Number: 21200020021

Status: Unutilized

Reasons: Secured Area, Extensive deterioration

Bldg. 7603

Redstone Arsenal

Redstone Arsenal Co: Madison AL 35898-

Landholding Agency: Army

Property Number: 21200020022

Status: Unutilized

Reasons: Secured Area, Extensive deterioration

Bldg. 7846

Redstone Arsenal

Redstone Arsenal Co: Madison AL 35898-

Landholding Agency: Army

Property Number: 21200020023

Status: Unutilized

Reasons: Secured Area, Extensive deterioration

Bldg. 8017

Redstone Arsenal

Redstone Arsenal Co: Madison AL 35898-

Landholding Agency: Army

Property Number: 21200020024

Status: Unutilized

Reasons: Secured Area, Extensive deterioration

Bldg. 8973

Redstone Arsenal

Redstone Arsenal Co: Madison AL 35898

Landholding Agency: Army

Property Number: 21200020025

Status: Unutilized

Reasons: Secured Area, Extensive deterioration

Alaska

Bldg. 7192

Elmendorf AFB

Anchorage Co: AK 99506-3240

Landholding Agency: Air Force

Property Number: 18200020001

Status: Unutilized

Reason: Secured Area

Bldg. 7231

Elmendorf AFB

Anchorage Co: AK 99506-3240

Landholding Agency: Air Force

Property Number: 18200020002

Status: Unutilized

Reason: Secured Area

Bldg. 14427

Elmendorf AFB

Anchorage Co: AK 99506-

Landholding Agency: Air Force

Property Number: 18200020003

Status: Unutilized

Reason: Within 2000 ft. of flammable or explosive material, Within airport runway clear zone, Secured Area

Bldg. 14487

Elmendorf AFB

Anchorage Co: AK 99506-

Landholding Agency: Air Force

Property Number: 18200020004

Status: Unutilized

Reason: Within 2000 ft. of flammable or explosive material, Within airport runway clear zone, Secured Area

Arizona

Bldg. 13440

Fort Huachuca

Sierra Vista Co: Cochise AZ 85635-

Landholding Agency: Army

Property Number: 21200020026

Status: Unutilized

Reason: Extensive deterioration

Bldg. 13556

Fort Huachuca

Sierra Vista Co: Cochise AZ 85635-

Landholding Agency: Army

Property Number: 21200020027

Status: Unutilized

Reason: Extensive deterioration

California

Bldg. S-21

Sharpe Site

Lathrop Co: San Joaquin CA 95231-

Landholding Agency: Army

Property Number: 21200020028

Status: Unutilized

Reason: Secured Area

Bldg. S-25

Sharpe Site

Lathrop Co: San Joaquin CA 95231-

Landholding Agency: Army

Property Number: 21200020029

Status: Unutilized

Reason: Secured Area

Bldg. S-402

Sharpe Site

Lathrop Co: San Joaquin CA 95231-

Landholding Agency: Army

Property Number: 21200020030

Status: Unutilized

Reason: Secured Area

Florida

Bldg. 72905

Cape Canaveral AFS

Brevard Co: FL 32907-

Landholding Agency: Air Force

Property Number: 18200020006

Status: Unutilized

Reasons: Within 2000 ft. of flammable or explosive material, Secured Area

Bldg. 62644

Cape Canaveral AFS

Brevard Co: FL 32907-

Landholding Agency: Air Force

Property Number: 18200020007

Status: Unutilized

Reasons: Within 2000 ft. of flammable or explosive material, Secured Area

Georgia

Bldg. P-8665

Hunter Army Airfield

Savannah Co: Chatham GA 31409-

Landholding Agency: Army

Property Number: 21200020031

Status: Unutilized

Reason: Extensive deterioration

Bldg. 2304, 2313

Fort Gordon

Ft. Gordon Co: Richmond GA 30905-

Landholding Agency: Army

Property Number: 21200020032

Status: Unutilized

Reason: Extensive deterioration

Hawaii

Bldgs. 16, 18, 20

Kokee AFS

Kauai Co: HI 00000-

Landholding Agency: Air Force

Property Number: 18200020005

Status: Unutilized

Reasons: Secured Area, Extensive deterioration

5 Bldgs.

Schofield Barracks

S-701, 712, 713, 734, 735

Wahiawa Co: HI 96786-

Landholding Agency: Army

Property Number: 21200020033

Status: Unutilized

Reason: Extensive deterioration

25 Bldgs.

Schofield Barracks

S703-708, 714-727, 737-741

Wahiawa Co: HI 96786-

Landholding Agency: Army

Property Number: 21200020034

Status: Unutilized

Reason: Extensive deterioration

11 Bldgs.

Aliamanu Military

Reservation

Honolulu Co: HI 96818-

Location: 701, 731, 732, 900, 905, 936, 977, 1476, 1487, 1857, 1901

Landholding Agency: Army

Property Number: 21200020035

Status: Unutilized

Reason: Extensive deterioration

13 Bldgs.

Aliamanu Military

Reservation

Honolulu Co: HI 96818-

Location: 1100, 1133, 1209, 1320, 1400, 1409, 1458, 1609, 1636, 1910, 1931, 2123, 2124

Landholding Agency: Army

Property Number: 21200020036

Status: Unutilized

Reason: Extensive deterioration

Bldg. 2138

Aliamanu Military

Reservation

Honolulu Co: HI 96818-

Landholding Agency: Army

Property Number: 21200020037

Status: Unutilized

Reason: Extensive deterioration

4 Bldgs.

Aliamanu Military

Reservation

Honolulu Co: HI 96818-

Location: 1001, 1002, 2137, 2139

Landholding Agency: Army

Property Number: 21200020038

Status: Unutilized

Reason: Extensive deterioration

Kansas

Bldg. P-941

Fort Riley

Ft. Riley Co: Geary KS 66442-

Landholding Agency: Army

Property Number: 21200020039

Stauts: Unutilized

Reason: Secured Area

Louisiana

Bldg. 5969 A-D

Fort Polk

Ft. Polk Co: Vernon Parish LA 71459-

Landholding Agency: Army

Property Number: 21200020040

Stauts: Unutilized

Reason: Floodway

Maryland

Bldg. 392

Fort George G. Meade

Ft. Meade Co: Anne Arundel MD 20755-5115

Landholding Agency: Army

Property Number: 21200020041

Stauts: Unutilized

Reason: Extensive deterioration

Bldg. 546

Fort George G. Meade

Ft. Meade Co: Anne Arundel MD 20755-5115

Landholding Agency: Army

Property Number: 21200020042

Stauts: Unutilized

Reason: Extensive deterioration

Bldg. 563

Fort George G. Meade

Ft. Meade Co: Anne Arundel MD 20755-5115

Landholding Agency: Army

Property Number: 21200020043

Stauts: Unutilized

Reason: Extensive deterioration

Bldg. 582

Fort George G. Meade

Ft. Meade Co: Anne Arundel MD 20755-5115

Landholding Agency: Army

Property Number: 21200020044

Stauts: Unutilized

Reason: Extensive deterioration

Bldg. 605

Fort George G. Meade

Ft. Meade Co: Anne Arundel MD 20755-5115

Landholding Agency: Army

Property Number: 21200020045

Status: Unutilized

Reason: Extensive deterioration

Bldg. 617

Fort George G. Meade

Ft. Meade Co: Anne Arundel MD 20755-5115

Landholding Agency: Army

Property Number: 21200020046

Status: Unutilized

Reason: Extensive deterioration

Bldgs. 2501, 2508

Fort George G. Meade

Ft. Meade Co: Anne Arundel MD 20755-5115

Landholding Agency: Army

Property Number: 21200020047

Status: Unutilized

Reason: Extensive deterioration

Bldg. 2835

Fort George G. Meade

Ft. Meade Co: Anne Arundel MD 20755-5115

Landholding Agency: Army

Property Number: 21200020048

Status: Unutilized

Reason: Extensive deterioration

Bldg. E3543

Aberdeen Proving Ground

Aberdeen Co: Harford MD 21005-5001

Landholding Agency: Army

Property Number: 21200020049

Status: Unutilized

Reason: Extensive deterioration

Bldg. 05452

Aberdeen Proving Ground

Aberdeen Co: Harford MD 21005-5001

Landholding Agency: Army

Property Number: 21200020050

Status: Unutilized

Reason: Extensive deterioration

Ohio

Bldg. 150

Defense Supply Center

Columbus Co: Franklin OH 43216-5000

Landholding Agency: Army

Property Number: 21200020051

Status: Unutilized

Reason: Extensive deterioration

Detached Garage 132

Defense Supply Center

Columbus Co: Franklin OH 43216-5000

Landholding Agency: Army

Property Number: 21200020052

Status: Unutilized

Reason: Extensive deterioration

Texas

Bldg. CB-1

Longhorn AAP

Karnack Co: Harrison TX 75661-

Landholding Agency: Army

Property Number: 21200020053

Status: Unutilized

Reason: Secured Area

Bldgs. S-1, S-2

Longhorn AAP

Karnack Co: Harrison TX 75661-

Landholding Agency: Army

Property Number: 21200020054

Status: Unutilized

Reason: Secured Area

Bldgs. S-3, S-4

Longhorn AAP

Karnack Co: Harrison TX 75661-

Landholding Agency: Army

Property Number: 21200020055

Status: Unutilized

Reason: Secured Area

Bldgs. S-9, S-11

Longhorn AAP

Karnack Co: Harrison TX 75661-

Landholding Agency: Army

Property Number: 21200020056

Status: Unutilized

Reason: Secured Area

Bldgs. 23T, 25T, 27T, 28T

Longhorn AAP

Karnack Co: Harrison TX 75661-

Landholding Agency: Army

Property Number: 21200020057

Status: Unutilized

Reason: Secured Area

Bldg. 31W

Longhorn AAP

Karnack Co: Harrison TX 75661-

Landholding Agency: Army

Property Number: 21200020058

Status: Unutilized

Reason: Secured Area

Bldg. 32T

Longhorn AAP

Karnack Co: Harrison TX 75661-

Landholding Agency: Army

Property Number: 21200020059

Status: Unutilized

Reason: Secured Area

Bldgs. 35M, 35W

Longhorn AAP

Karnack Co: Harrison TX 75661-

Landholding Agency: Army

Property Number: 21200020060

Status: Unutilized

Reason: Secured Area

Bldg. 39M

Longhorn AAP

Karnack Co: Harrison TX 75661-

Landholding Agency: Army

Property Number: 21200020061

Status: Unutilized

Reason: Secured Area

Bldgs. 44T, 46T, 47T

Longhorn AAP

Karnack Co: Harrison TX 75661-

Landholding Agency: Army

Property Number: 21200020062

Status: Unutilized

Reason: Secured Area

Bldgs. 50W, 52W

Longhorn AAP

Karnack Co: Harrison TX 75661-

Landholding Agency: Army

Property Number: 21200020063

Status: Unutilized

Reason: Secured Area

Bldg. 53D

Longhorn AAP

Karnack Co: Harrison TX 75661-

Landholding Agency: Army

Property Number: 21200020064

Status: Unutilized

Reason: Secured Area

Bldg. 82G

Longhorn AAP

Karnack Co: Harrison TX 75661-

Landholding Agency: Army

Property Number: 21200020065

Status: Unutilized

Reason: Secured Area

Bldgs. P112, P116, P118, P120

Longhorn AAP

Karnack Co: Harrison TX 75661-

Landholding Agency: Army

Property Number: 21200020066

Status: Unutilized

Reason: Secured Area

Bldgs. 201, 206

Longhorn AAP

Karnack Co: Harrison TX 75661-

Landholding Agency: Army

Property Number: 21200020067

Status: Unutilized

Reason: Secured Area

Bldgs. 213-216

Longhorn AAP

Karnack Co: Harrison TX 75661-

Landholding Agency: Army

Property Number: 21200020068

Status: Unutilized

Reason: Secured Area

Bldgs. 401, 413A, 414

Longhorn AAP

Karnack Co: Harrison TX 75661-

Landholding Agency: Army

Property Number: 21200020069

Status: Unutilized

Reason: Secured Area

Bldgs. 713, 713B, 716, 717

Longhorn AAP

Karnack Co: Harrison TX 75661-

Landholding Agency: Army

Property Number: 21200020070

Status: Unutilized

Reason: Secured Area

Bldgs. 812, 813, 814

Longhorn AAP

Karnack Co: Harrison TX 75661-

Landholding Agency: Army

Property Number: 21200020071

Status: Unutilized

Reason: Secured Area

Bldgs. 823, 824

Longhorn AAP

Karnack Co: Harrison TX 75661-

Landholding Agency: Army

Property Number: 21200020072

Status: Unutilized

Reason: Secured Area

Virginia

Bldg. SS0310

Fort A.P. Hill

Bowling Green Co; Carolin VA 22427-

Landholding Agency: Army

Property Number: 21200020073

Status: Unutilized

Reason: Extensive deterioration

Bldg. TT1279

Fort A.P. Hill

Bowling Green Co; Carolin VA 22427-

Landholding Agency: Army

Property Number: 21200020074

Status: Unutilized

Reason: Extensive deterioration

Bldg. TT1280

Fort A.P. Hill

Bowling Green Co; Carolin VA 22427-

Landholding Agency: Army

Property Number: 21200020075

Status: Unutilized

Reason: Extensive deterioration

Bldg. TT1281

Fort A.P. Hill

Bowling Green Co; Carolin VA 22427-

Landholding Agency: Army

Property Number: 21200020076

Status: Unutilized

Reason: Extensive deterioration

Bldg. TT1304

Fort A.P. Hill

Bowling Green Co; Carolin VA 22427-

Landholding Agency: Army

Property Number: 21200020077

Status: Unutilized

Reason: Extensive deterioration

Bldg. 2477

Fort Belvoir

Ft. Belvoir Co: VA 22060-5301

Landholding Agency: Army

Property Number: 21200020078

Status: Unutilized

Reason: Extensive deterioration

Bldg. C3677-00

Radford AAP

Radford Co: VA 24141-

Landholding Agency: Army

Property Number: 21200020079

Status: Unutilized

Reason: Within 2000 ft. of flammable or explosive material Secured Area

Bldg. 5504-00

Radford AAP

Radford Co: VA 24141-

Landholding Agency: Army

Property Number: 21200020080

Status: Unutilized

Reason: Within 2000 ft. of flammable or explosive material, Secured Area

Bldg. 7503-00

Radford AAP

Radford Co: VA 24141-

Landholding Agency: Army

Property Number: 21200020081

Status: Unutilized

Reasons: Within 2000 ft. of flammable or explosive material, Secured Area

Bldg. T-12050

Fort Lee

Ft. Lee Co: Prince George VA 23801-

Landholding Agency: Army

Property Number: 21200020082

Status: Unutilized

Reason: Extensive deterioration

Wisconsin

Bldg. 0423-0

Badger AAP

Baraboo Co: Sauk WI 53913-

Landholding Agency: Army

Property Number: 21200020083

Status: Unutilized

Reasons: Within 2000 ft. of flammable or explosive material, Secured Area

Bldg. 0931-0

Badger AAP

Baraboo Co: Sauk WI 53913-

Landholding Agency: Army

Property Number: 21200020084

Status: Unutilized

Reasons: Within 2000 ft. of flammable or explosive material, Secured Area.

Bldg. 1800-1

Badger AAP

Baraboo Co: Sauk WI 53913-

Landholding Agency: Army

Property Number: 21200020085

Status: Unutilized

Reasons: Within 2000 ft. of flammable or explosive material, Secured Area.

Bldgs. 1805-1, 1805-2, 1852-1

Badger AAP

Baraboo Co: Sauk WI 53913-

Landholding Agency: Army

Property Number: 21200020086

Status: Unutilized

Reasons: Within 2000 ft. of flammable or explosive material, Secured Area

Bldgs. 1994-0, 1995-0

Badger AAP

Baraboo Co: Sauk WI 53913-

Landholding Agency: Army

Property Number: 21200020087

Status: Unutilized

Reasons: Within 2000 ft. of flammable or explosive material, Secured Area

Bldgs. 3502-0, 3566-1

Badger AAP

Baraboo Co: Sauk WI 53913-

Landholding Agency: Army

Property Number: 21200020088

Status: Unutilized

Reasons: Within 2000 ft. of flammable or explosive material, Secured Area

Bldg. 4524-4

Badger AAP

Baraboo Co: Sauk WI 53913-

Landholding Agency: Army

Property Number: 21200020089

Status: Unutilized

Reasons: Within 2000 ft. of flammable or explosive material, Secured Area

Bldg. 6536-0

Badger AAP

Baraboo Co: Sauk WI 53913-

Landholding Agency: Army

Property Number: 21200020090

Status: Unutilized

Reasons: Within 2000 ft. of flammable or explosive material, Secured Area

Bldgs. 6662-0, 6666-0, 6669-0

Badger AAP

Baraboo Co: Sauk WI 53913-

Landholding Agency: Army

Property Number: 21200020091

Status: Unutilized

Reasons: Secured Area

Bldgs. 6706-2, 6712-0, 6724-0

Badger AAP

Baraboo Co: Sauk WI 53913-

Landholding Agency: Army

Property Number: 21200020092

Status: Unutilized

Reasons: Within 2000 ft. of flammable or explosive material, Secured Area

Bldgs. 6731-2, -3, -4

Badger AAP

Baraboo Co: Sauk WI 53913-

Landholding Agency: Army

Property Number: 21200020093

Status: Unutilized

Reasons: Within 2000 ft. of flammable or explosive material, Secured Area

5 Bldgs.

Badger AAP

Baraboo Co: Sauk WI 53913-

Location: 6732-0, 6732-1, 6736-0, 6738-0, 6738-1

Landholding Agency: Army

Property Number: 21200020094

Status: Unutilized

Reasons: Within 2000 ft. of flammable or explosive material, Secured Area

5 Bldgs.

Badger AAP

Baraboo Co: Sauk WI 53913-

Location: 6826-2, 6850-1, 6863-0, 6881-0, 6882-1

Landholding Agency: Army

Property Number: 21200020095

Status: Unutilized

Reasons: Within 2000 ft. of flammable or explosive material, Secured Area

4 Bldgs.

Badger AAP

Baraboo Co: Sauk WI 53913-

Location: 6953-1, 6955-1, 6956-1, 6957-1

Landholding Agency: Army

Property Number: 21200020096

Status: Unutilized

Reasons: Within 2000 ft. of flammable or explosive material, Secured Area

12 Bldgs.

Badger AAP

Baraboo Co: Sauk WI 53913-

Location: 1725-1 thru 7, 1725-13 thru 17

Landholding Agency: Army

Property Number: 21200020097

Status: Unutilized

Reasons: Within 2000 ft. of flammable or explosive material, Secured Area

Bldgs. 1810-1 thru 4

Badger AAP

Baraboo Co: Sauk WI 53913-

Landholding Agency: Army

Property Number: 21200020098

Status: Unutilized

Reasons: Within 2000 ft. of flammable or explosive material, Secured Area

Bldgs. 1825-1 thru 4

Badger AAP

Baraboo Co: Sauk WI 53913-

Landholding Agency: Army

Property Number: 21200020099

Status: Unutilized

Reasons: Within 2000 ft. of flammable or explosive material, Secured Area

Bldgs. 1875-1 thru 4

Badger AAP

Baraboo Co: Sauk WI 53913

Landholding Agency: Army

Property Number: 21200020100

Status: Unutilized

Reasons: Within 2000 ft. of flammable or explosive material, Secured Area

13 Bldgs.

Badger AAP

Baraboo Co: Sauk WI 53913-

Location: 1996-1 thru 10, 1996-19 thru 21

Landholding Agency: Army

Property Number: 21200020101

Status: Unutilized

Reasons: Within 2000 ft. of flammable or explosive material, Secured Area

Bldgs. 2002-0, 3002-0, 4002-0

Badger AAP

Baraboo Co: Sauk WI 53913-

Landholding Agency: Army

Property Number: 21200020102

Status: Unutilized

Reasons: Within 2000 ft. of flammable or explosive material, Secured Area

Bldgs. 2003-0, 3003-0, 4003-0

Badger AAP

Baraboo Co: Sauk WI 53913-

Landholding Agency: Army

Property Number: 21200020103

Status: Unutilized

Reasons: Within 2000 ft. of flammable or explosive material, Secured Area

Bldgs. 2005-0, 3005-0, 4005-0

Badger AAP

Baraboo Co: Sauk WI 53913-

Landholding Agency: Army

Property Number: 21200020104

Status: Unutilized

Reasons: Within 2000 ft. of flammable or explosive material, Secured Area

Bldgs. 2007-0, 3007-0, 4007-0

Badger AAP

Baraboo Co: Sauk WI 53913-

Landholding Agency: Army

Property Number: 21200020105

Status: Unutilized

Reasons: Within 2000 ft. of flammable or explosive material, Secured Area

Bldgs. 2008-0, 3008-0, 4008-0

Badger AAP

Baraboo Co: Sauk WI 53913-

Landholding Agency: Army

Property Number: 21200020106

Status: Unutilized

Reasons: Within 2000 ft. of flammable or explosive material, Secured Area

Bldgs. 2011-0, 3011-0, 4011-0

Badger AAP

Baraboo Co: Sauk WI 53913-

Landholding Agency: Army

Property Number: 21200020107

Status: Unutilized

Reasons: Within 2000 ft. of flammable or explosive material, Secured Area

Bldgs. 2012-0, 3012-0, 4012-0

Badger AAP

Baraboo Co: Sauk WI 53913-

Landholding Agency: Army

Property Number: 21200020108

Status: Unutilized

Reasons: Within 2000 ft. of flammable or explosive material, Secured Area

Bldgs. 2013-0, 3013-0, 4013-0

Badger AAP

Baraboo Co: Sauk WI 53913-

Landholding Agency: Army

Property Number: 21200020109

Status: Unutilized

Reasons: Within 2000 ft. of flammable or explosive material, Secured Area

4 Bldgs.

Badger AAP

Baraboo Co: Sauk WI 53913-

Location: 8002-0, 8003-0, 8004-0, 8006-0

Landholding Agency: Army

Property Number: 21200020110

Status: Unutilized

Reasons: Within 2000 ft. of flammable or explosive material, Secured Area

Bldgs. 0420-01, 02, 03

Badger AAP

Baraboo Co: Sauk WI 53913-

Landholding Agency: Army

Property Number: 21200020111

Status: Unutilized

Reasons: Within 2000 ft. of flammable or explosive material, Secured Area

Bldgs. 0712-17, 18, 19

Badger AAP

Baraboo Co: Sauk WI 53913-

Landholding Agency: Army

Property Number: 21200020112

Status: Unutilized

Reasons: Within 2000 ft. of flammable or explosive material, Secured Area

Bldgs. 0923-01, 02, 05, 06, 08

Badger AAP

Baraboo Co: Sauk WI 53913-

Landholding Agency: Army

Property Number: 21200020113

Status: Unutilized

Reasons: Within 2000 ft. of flammable or explosive material, Secured Area

29 Bldgs.

Badger AAP

Baraboo Co: Sauk WI 53913-

Location: 1600-01 thru 18, 1600-31 thru 39, 41, 42

Landholding Agency: Army

Property Number: 21200020114

Status: Unutilized

Reasons: Within 2000 ft. of flammable or explosive material, Secured Area

Bldgs. 1650-36, thru 42

Badger AAP

Baraboo Co: Sauk WI 53913-

Landholding Agency: Army

Property Number: 21200020115

Status: Unutilized

Reasons: Within 2000 ft. of flammable or explosive material, Secured Area

Bldgs. 2014-0, 3014-0, 4014-0

Badger AAP

Baraboo Co: Sauk WI 53913-

Landholding Agency: Army

Property Number: 21200020116

Status: Unutilized

Reasons: Within 2000 ft. of flammable or explosive material, Secured Area

Bldgs. 2019-0, 3019-0, 4019-0

Badger AAP

Baraboo Co: Sauk WI 53913-

Landholding Agency: Army

Property Number: 21200020117

Status: Unutilized

Reasons: Within 2000 ft. of flammable or explosive material, Secured Area

Bldgs. 2020-0, 3020-0, 4020-0

Badger AAP

Baraboo Co: Sauk WI 53913-

Landholding Agency: Army

Property Number: 21200020118

Status: Unutilized

Reasons: Within 2000 ft. of flammable or explosive material, Secured Area

Bldgs. 2022-0, 3022-0, 4022-0

Badger AAP

Baraboo Co: Sauk WI 53913-

Landholding Agency: Army

Property Number: 21200020119

Status: Unutilized

Reasons: Within 2000 ft. of flammable or explosive material, Secured Area

6 Bldgs.

Badger AAP

Baraboo Co: Sauk WI 53913-

Location: 2024-0, 3024-0, 4024-0, 2025-0, 3025-0, 4025-0

Landholding Agency: Army

Property Number: 21200020120

Status: Unutilized

Reasons: Within 2000 ft. of flammable or explosive material, Secured Area

Bldgs. 2026-0, 3026-0, 4026-0

Badger AAP

Baraboo Co: Sauk WI 53913-

Landholding Agency: Army

Property Number: 21200020121

Status: Unutilized

Reasons: Within 2000 ft. of flammable or explosive material, Secured Area

Bldgs. 2035-0, 3035-0, 4035-0

Badger AAP

Baraboo Co: Sauk WI 53913-

Landholding Agency: Army

Property Number: 21200020122

Status: Unutilized

Reasons: Within 2000 ft. of flammable or explosive material, Secured Area

Bldgs. 2043-0, 3043-0, 4043-0

Badger AAP

Baraboo Co: Sauk WI 53913-

Landholding Agency: Army

Property Number 21200020123

Status: Unutilized

Reasons: Within 2000 ft. of flammable or explosive material, Secured Area

Bldgs. 2046-0, 3046-0, 4046-0

Badger AAP

Baraboo Co: Sauk WI 53913-

Landholding Agency: Army

Property Number: 21200020124

Status: Unutilized

Reasons: Within 2000 ft. of flammable or explosive material, Secured Area

Bldgs. 2500-0, 3500-0

Badger AAP

Baraboo Co: Sauk WI 53913-

Landholding Agency: Army

Property Number: 21200020125

Status: Unutilized

Reasons: Within 2000 ft. of flammable or explosive material, Secured Area

Bldgs. 2501-0, 3501-0

Badger AAP

Baraboo Co: Sauk WI 53913-

Landholding Agency: Army

Property Number: 21200020126

Status: Unutilized

Reasons: Within 2000 ft. of flammable or explosive material, Secured Area

7 Bldgs.

Badger AAP

Baraboo Co: Sauk WI 53913-

Location: 2506-0, 3506-0, 4506-0, 2508-1, 2508-2, 3508-1, 3508-2

Landholding Agency: Army

Property Number: 21200020127

Status: Unutilized

Reasons: Within 2000 ft. of flammable or explosive material, Secured Area

13 Bldgs.

Badger AAP

Baraboo Co: Sauk WI 53913-

Location: 2510-1 thru 3, 3510-1 thru 3, 2513-1 thru 4, 3513-1 thru 3

Landholding Agency: Army

Property Number: 21200020128

Status: Unutilized

Reasons: Within 2000 ft. of flammable or explosive material, Secured Area

5 Bldgs.

Badger AAP

Baraboo Co: Sauk WI 53913-

Location: 2517-1, 2517-2, 3517-1, 3517-2, 3517-3

Landholding Agency: Army

Property Number: 21200020129

Status: Unutilized

Reasons: Within 2000 ft. of flammable or explosive material, Secured Area

6 Bldgs.

Badger AAP

Baraboo Co: Sauk WI 53913-

Location: 2546-1 thru 4, 2555-0, 3555-0

Landholding Agency: Army

Property Number: 21200020130

Status: Unutilized

Reasons: Within 2000 ft. of flammable or explosive material, Secured Area

Bldg. 3044-0

Badger AAP

Baraboo Co: Sauk WI 53913-

Landholding Agency: Army

Property Number: 21200020131

Status: Unutilized

Reasons: Within 2000 ft. of flammable or explosive material, Secured Area

Bldgs. 3502-1, 3502-2

Badger AAP

Baraboo Co: Sauk WI 53913-

Landholding Agency: Army

Property Number: 21200020132

Status: Unutilized

Reasons: Within 2000 ft. of flammable or explosive material, Secured Area

Bldgs. 3516-1, 2, 3

Badger AAP

Baraboo Co: Sauk WI 53913-

Landholding Agency: Army

Property Number: 21200020133

Status: Unutilized

Reasons: Within 2000 ft. of flammable or explosive material, Secured Area

Bldgs. 4524-1, 2, 3

Badger AAP

Baraboo Co: Sauk WI 53913-

Landholding Agency: Army

Property Number: 21200020134

Status: Unutilized

Reasons: Within 2000 ft. of flammable or explosive material, Secured Area

22 Bldgs.

Badger APP

Baraboo Co: Sauk WI 53913-

Location: 6513-1, 6513-6 thru 10, 6513-13 thru 24, 6513-30, 6513-43, 6513-44, 6513-46

Landholding Agency: Army

Property Number: 21200020135

Status: Unutilized

Reasons: Within 2000 ft. of flammable or explosive material, Secured Area

Bldgs. 6529-0, 6586-1

Badger APP

Baraboo Co: Sauk WI 53913-

Landholding Agency: Army

Property Number: 21200020136

Status: Unutilized

Reasons: Within 2000 ft. of flammable or explosive material, Secured Area

Bldgs. 6529-0, 6586-1

Badger APP

Baraboo Co: Sauk WI 53913-

Landholding Agency: Army

Property Number: 21200020137

Status: Unutilized

Reasons: Within 2000 ft. of flammable or explosive material, Secured Area

Bldgs. 6672-1, 6672-2

Badger AAP

Baraboo Co: Sauk WI 53913-

Landholding Agency: Army

Property Number: 21200020138

Status: Unutilized

Reasons: Within 2000 ft. of flammable or explosive material, Secured Area

4 Bldgs.

Badger AAP

Baraboo Co: Sauk WI 53913-

Location: 6702-3, 6702-4, 6704-3, 6704-4

Landholding Agency: Army

Property Number: 21200020139

Status: Unutilized

Reasons: Within 2000 ft. of flammable or explosive material, Secured Area

Bldgs. 6705-3, 6705-4

Badger AAP

Baraboo Co: Sauk WI 53913-

Landholding Agency: Army

Property Number: 21200020140

Status: Unutilized

Reasons: Within 2000 ft. of flammable or explosive material, Secured Area

15 Bldgs.

Badger AAP

Baraboo Co: Sauk WI 53913-

Location: 6709-2, 6709-5, thru 13, 6709-17 thru 19, 6709-21, 6709-27

Landholding Agency: Army

Property Number: 21200020141

Status: Unutilized

Reasons: Within 2000 ft. of flammable or explosive material, Secured Area

11 Bldgs.

Badger AAP

Baraboo Co: Sauk WI 53913-

Location: 6804-2 thru 7, 6804-9 thru 13

Landholding Agency: Army

Property Number: 21200020142

Status: Unutilized

Reasons: Within 2000 ft. of flammable or explosive material, Secured Area

20 Bldgs.

Badger AA P

Baraboo Co: Sauk WI 53913-

Location: 6807-1 thru 5, 6807-7 thru 10, 6807-12 thru 15, 6807-17, 6807-19 thru 21, 6807-24, 6807-54, 6807-56

Landholding Agency: Army

Property Number: 21200020143

Status: Unutilized

Reasons: Within 2000 ft. of flammable or explosive material, Secured Area

4 Bldgs.

Badger AAP

Baraboo Co: Sauk WI 53913-

Location: 6808-1, 4, 6, 8

Landholding Agency: Army

Property Number: 21200020144

Status: Unutilized

Reasons: Within 2000 ft. of flammable or explosive material, Secured Area

20 Bldgs.

Badger AAP

Baraboo Co: Sauk WI 53913-

Location: 6810-1 thru 3, 6810-5, 6810-6, 6810-8, 6810-10 thru 16, 33 thru 38

Landholding Agency: Army

Property Number: 21200020145

Status: Unutilized

Reasons: Within 2000 ft. of flammable or explosive material, Secured Area

7 Bldgs.

Badger AAP

Baraboo Co: Sauk WI 53913-

Location: 6812-1 thru 7

Landholding Agency: Army

Property Number: 21200020146

Status: Unutilized

Reasons: Within 2000 ft. of flammable or explosive material, Secured Area

Bldgs. 6814-1 thru 5

Badger AAP

Baraboo Co: Sauk WI 53913-

Landholding Agency: Army

Property Number: 21200020147

Status: Unutilized

Reasons: Within 2000 ft. of flammable or explosive material, Secured Area

Bldgs. 6817-1 thru 4

Badger AAP

Baraboo Co: Sauk WI 53913-

Landholding Agency: Army

Property Number: 21200020148

Status: Unutilized

Reasons: Within 2000 ft. of flammable or explosive material, Secured Area

Bldgs. 6828-1, 2, 8

Badger AAP

Baraboo Co: Sauk WI 53913-

Landholding Agency: Army

Property Number: 21200020149

Status: Unutilized

Reasons: Within 2000 ft. of flammable or explosive material, Secured Area

Bldgs. 6829-1, 2

Badger AAJP

Baraboo Co: Sauk WI 53913-

Landholding Agency: Army

Property Number: 21200020150

Status: Unutilized

Reasons: Within 2000 ft. of flammable or explosive material, Secured Area

Bldgs. 6837-1, 2

Badger AAP

Baraboo Co: Sauk WI 53913-

Landholding Agency: Army

Property Number: 21200020151

Status: Unutilized

Reasons: Within 2000 ft. of flammable or explosive material, Secured Area

Bldgs. 6868-1, 2, 3, 7, 8

Badger AAP

Baraboo Co: Sauk WI 53913-

Landholding Agency: Army

Property Number: 21200020152

Status: Unutilized

Reasons: Within 2000 ft. of flammable or explosive material, Secured Area

Bldgs. 8000-1, 2, 3

Badger AAP

Baraboo Co: Sauk WI 53913-

Landholding Agency: Army

Property Number: 21200020153

Status: Unutilized

Reasons: Within 2000 ft. of flammable or explosive material, Secured Area

28 Bldgs.

Badger AAP

Baraboo Co: Sauk WI 53913-

Location: 9062-01 thru 18, 25, 28, 9063-01 thru 05, 11, 12, 15

Landholding Agency: Army

Property Number: 21200020154

Status: Unutilized

Reasons: Within 2000 ft. of flammable or explosive material, Secured Area

45 Bldgs.

Badger AAP

Baraboo Co: Sauk WI 53913-

Location: Steam Pressure Reducing Station

Landholding Agency: Army

Property Number: 21200020155

Status: Unutilized

Reasons: Within 2000 ft. of flammable or explosive material, Secured Area

Unsuitable Properties

Land (by State)

North Carolina

0.52 acres

Summerall TACAN Annex

Seymour Johnson AFB

Wayne Co: NC 27530-

Landholding Agency: Air Force

Property Number: 18200020008

Status: Unutilized

Reason: Within airport runway clear zone

[FR Doc. 00-12299 Filed 5-18-00; 8:45 am]

BILLING CODE 4210-29-M